DEPARTMENT OF JUSTICE

Drug Enforcement Administration

21 CFR Part 1308

[Docket No. DEA-716]

Schedules of Controlled Substances: Placement of Brorphine in Schedule I; Correction

AGENCY: Drug Enforcement Administration, Department of Justice.

ACTION: Final order; correction. Correcting amendment.

SUMMARY: On March 6, 2023, the Drug Enforcement Administration published a final order placing 1-(1-(1-(4-bromophenyl)ethyl)piperidin-4-yl)-1,3-dihydro-2H-benzo[d]imidazol-2-one (commonly known as brorphine), including its isomers, esters, ethers, salts, and salts of isomers, esters, and ethers whenever the existence of such isomers, esters, ethers, and salts is possible within the specific chemical designation, in schedule I of the Controlled Substances Act. In an amendatory instruction, the document incorrectly designated certain paragraphs. This document corrects that instruction.

DATES: This correcting amendment is effective July 19, 2023, and is applicable beginning March 6, 2023.

FOR FURTHER INFORMATION CONTACT: Dr. Terrence L. Boos, Drug and Chemical Evaluation Section, Diversion Control Division, Drug Enforcement Administration; Telephone: (571) 362-3249.

SUPPLEMENTARY INFORMATION: In FR Doc. 2023-04364, appearing on page 13692 in the Federal Register of Monday, March 6, 2023 (88 FR 13692), the following correction is made:

§ 1308.11 [Corrected]

1. On page 13694, in the third column, amendatory instruction number 2 is corrected to read as follows:

“2. In § 1308.11:

a. Redesignate paragraphs (b)(22) through (b)(92) as (b)(23) through (b)(93);”

b. Add a new paragraph (b)(22);

c. Remove and reserve paragraph (h)(49).

The addition reads as follows:”

Signing Authority

This document of the Drug Enforcement Administration was signed on July 5, 2023, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2023-15249 Filed 7-18-23; 8:45 am]

BILLING CODE P